DEPARTMENT OF ENERGY

Federal Energy Regulatory Commission

[Project No. 14241-000]

Alaska Energy Authority; Notice of Revised Restricted Service List for a Programmatic Agreements for Managing Properties Included In or Eligible for Inclusion in the National Register of Historic Places

On February 25, 2014, the Federal Energy Regulatory Commission (Commission) issued notice of a proposed restricted service list for the preparation of a programmatic agreement for managing properties included in, or eligible for inclusion in, the National Register of Historic Places at the Susitna-Watana Hydroelectric Project No. 14241. Rule 2010(d)(1) of the Commission's Rules of Practice and Procedure, 18 CFR 2010(d)(1) (2005), provides for the establishment of such a list for a particular phase or issue in a proceeding to eliminate unnecessary expense or improve administrative efficiency. Under Rule 2010(d)(4), persons on the official service list are to be given notice of any proposal to establish a restricted service list and an opportunity to show why they should also be included on the restricted service list.

On March, 11, 2014, Sharon Corsaro, Concerned Citizen for the Historic District of Talkeetna, Alaska (Talkeetna Historic District), and Robert Gerlach, President of Talkeetna Airmen's Association filed requests to include: Sharon Corsaro, Talkeetna Historic District; Constance Twigg, property owner in the Talkeetna Historic District; and Robert Gerlach, Talkeetna Airmen's Association on the proposed restricted service list.

On March 12, 2014, Van Ness Feldman, LLP (Van Ness) on behalf of the Alaska Energy Authority (AEA) filed a request to include Wayne Dyok, Susitna-Watana Project Manager of AEA and Charles Sensiba of Van Ness, and council for AEA, on the proposed restricted service list.

On May 12, 2014, AEA filed a letter opposing the additions of such persons as Ms. Corsaro, Ms. Twigg, and Mr. Gerlach to the restricted service list because AEA maintains that their particular interests are more broad and non-regulatory in nature and they should not have access to sensitive cultural information that is protected by law from public disclosure.¹ In this regard, we agree with AEA to restrict such sensitive information from individuals who are not associated with the involved agencies and Alaska Native entities.

¹ See 16 U.S.C. 470w-3(a); also see 18 CFR 5.2(c).

Under Rule 2010(d)(2), any restricted service list will contain the names of each person on the official service list, or the person's representative, who, in the judgment of the decisional authority establishing the list, is an active participant with respect to the phase or issue in the proceeding for which the list is established. As the proposed licensee for the project, AEA, and their legal representative at Van Ness, have an identifiable interest in issues relating to the management of historic properties at the Susitna-Watana Hydroelectric Project No. 14241. Therefore, AEA's representatives will be added to the restrictive service list. In regards to the representatives associated with the Talkeetna Historic District and Talkeetna Airmen's Association, these additional three individuals will also be added to the restricted service list as they too have identifiable interest in issues relating to the management of historic properties at the Susitna-Watana Hydroelectric Project No. 14241. These interests are: (1) The partial ownership of the Talkeetna Village Air Strip by the Talkeetna Airmen's Association and the preservation and protection of this historic property; and (2) the preservation and protection of the Talkeetna Historic District. However, these three individuals should not receive any information deemed sensitive or confidential in nature that is associated with: (1) data or reports involving archeological finds; or (2) Alaska Native areas, items, or perspectives deemed to be of religious or cultural significance and considered sensitive to one or more the involved Alaska Native entities. Finally, the Bureau of Land Management also needs to have a representative added to the restricted service list because they manage lands within the proposed project's boundary and are participants within the technical work group for cultural resources.

Accordingly, the restricted service list issued on October 12, 2006, for the Susitna-Watana Hydroelectric Project No. 14241, is revised to add the following persons:

Wayne Dyok or Representative, Susitna-Watana Project Manager, Alaska Energy Authority, 813 West Northern Lights Boulevard, Anchorage, AK 99503.

John Jangela or Representative, Bureau of Land Management, Glennallen Field Office, P.O. Box 147, Mile Post 186.5 Glenn Hwy., Glennallen, AK 99588.

Sharon Corsaro or Representative, Concern Citizen, Historic District of Talkeetna, P.O. Box 255, Hermosa Beach, CA 90254.

Charles Sensiba or Representative, Van Ness Feldman, LLP, 1050 Thomas Jefferson St., NW, Seventh Floor, Washington, DC 20007.

Constance Twigg or Representative, Property Owner, Historic Townsite of Talkeetna, P.O. Box 266, Talkeetna, AK 99676.

Robert Gerlach or Representative, President of the Talkeetna Airman's, Association, P.O. Box 23, Talkeetna, AK 99676.

Dated: December 2, 2014.
Kimberly D. Bose,
Secretary.

[FR Doc. 2014-28759 Filed 12-8-14; 8:45 am]

BILLING CODE 6717-01-P